DEPARTMENT OF ENERGY

Federal Energy Regulatory Commission

[Docket No. IC16-1-000]

Commission Information Collection Activities (FERC-725K); Comment Request; Extension

AGENCY: Federal Energy Regulatory Commission, Energy.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-725K (Mandatory Reliability Standards for the SERC Region).

DATES: Comments on the collection of information are due [insert date that is 60 days after publication in the Federal Register].

ADDRESSES: You may submit comments (identified by Docket No. IC16-1-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: Mandatory Reliability Standards for the SERC Region.

OMB Control No.: 1902-0260.

Type of Request: Three-year extension of the FERC-725K information collection requirements with no changes to the current reporting requirements.

Abstract: Section 215 of the Federal Power Act (FPA) requires a Commission-certified Electric Reliability Organization (ERO) to develop mandatory and enforceable Reliability Standards, which are subject to Commission review and approval. Once approved, the Reliability Standards may be enforced by NERC, subject to Commission oversight, or by the Commission independently.

Reliability Standards that NERC proposes to the Commission may include Reliability Standards that are proposed by a Regional Entity to be effective in that region. In Order No. 672, the Commission noted that:

As a general matter, we will accept the following two types of regional differences, provided they are otherwise just, reasonable, not unduly discriminatory or preferential and in the public interest, as required under the statute: (1) a regional difference that is more stringent than the continent-wide Reliability Standard, including a regional difference that addresses matters that the continent-wide Reliability Standard does not; and (2) a regional Reliability Standard that is necessitated by a physical difference in the Bulk-Power System.

When NERC reviews a regional Reliability Standard that would be applicable on an interconnection-wide basis and that has been proposed by a Regional Entity organized on an interconnection-wide basis, NERC must rebuttably presume that the regional Reliability Standard is just, reasonable, not unduly discriminatory or preferential, and in the public interest. In turn, the Commission must give “due weight” to the technical expertise of NERC and of a Regional Entity organized on an interconnection-wide basis.

On April 19, 2007, the Commission accepted delegation agreements between NERC and each of the eight Regional Entities. In the order, the Commission accepted SERC as a Regional Entity organized on less than an interconnection-wide basis. As a Regional Entity, SERC oversees Bulk-Power System reliability within the SERC Region, which covers a geographic area of approximately 560,000 square miles in a sixteen-state area in the southeastern and central United States (all of Missouri, Alabama, Tennessee, North Carolina, South Carolina, Georgia, Mississippi, and portions of Iowa, Illinois, Kentucky, Virginia, Oklahoma, Arkansas, Louisiana, Texas and Florida). The SERC Region is currently geographically divided into five subregions that are identified as Southeastern, Central, VACAR, Delta, and Gateway.

Type of Respondents: Entities registered with the North American Electric Reliability Corporation (within the SERC region).

Estimate of Annual Burden ¹: The Commission estimates the annual public reporting burden for the information collection as:

¹ The Commission defines burden as the total time, effort, or financial resources expended by persons to generate, maintain, retain, or disclose or provide information to or for a Federal agency. For further explanation of what is included in the information collection burden, reference 5 Code of Federal Regulations 1320.3.

² The $66.45 hourly cost figure (including benefits) comes from the cost of an engineer as posted on the Bureau of Labor Statistics (BLS) Web site: http://www.bls.gov/oes/current/naics2_22.htm#11-0000 (wage category 17-2071).

³ Both figures for PC respondents are not to be totaled. They represent the same set of respondents.

⁴ The $66.45 hourly cost figure (including benefits) comes from the cost of an engineer as posted on the Bureau of Labor Statistics (BLS) Web site: http://www.bls.gov/oes/current/naics2_22.htm#11-0000 (wage category 17-2071).

⁵ Both figures for GO respondents are not to be totaled. They represent the same set of respondents.

⁶ The hourly cost for GOs uses the hourly reporting cost of $66.45 per hour is based on the cost (including benefits) of an engineer to implement the requirements of the rule.

⁷ The record retention cost of $37.50 per hour (including benefits) comes from Commission staff research on record retention requirements (wage category 43-4199 for information and record clerks).

FERC-725K: Mandatory Reliability Standard for the SERC Region
| Number of respondents (1) | Annual number of responses per respondent (2) | Total number of responses (1)*(2)=(3) | Average burden and cost per response ² (4) | Total annual burden hours and total annual cost (3)*(4)=(5) | Cost per respondent ($) (5)÷(1)
PCs: Design and Document Automatic UFLS Program | ³ 21 | 1 | 21 | 8 $532 | 168 ⁴ $11,172 | $532
PCs: Provide Documentation and Data to SERC | ³ 21 | 1 | 21 | 16 $1,064 | 336 $22,344 | $1,064
GOs: Provide Documentation and Data to SERC | ⁵ 104 | 1 | 104 | 16 $1,064 | 1,664 ⁶ $110,656 | $1,064
GOs: Record Retention | ⁵ 104 | 1 | 104 | 4 $150 | 416 ⁷ $15,600 | $150
Total |  |  |  | 125 | 2,584 $159,772 | $2,810

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: October 7, 2015.
Kimberly D. Bose,
Secretary.

[FR Doc. 2015-26082 Filed 10-13-15; 8:45 am]

BILLING CODE 6717-01-P